DEPARTMENT OF AGRICULTURE

Submission for OMB Review; Comment Request

November 23, 2016.

The Department of Agriculture has submitted the following information collection requirement(s) to Office of Management and Budget (OMB) for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical, or other technological collection techniques or other forms of information technology.

Comments regarding this information collection received by December 29, 2016 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utility Service

Title: Rural Energy Savings Program.

OMB Control Number: 0572-0151.

Summary of Collection: Passage of section 6407 of the Farm Security and Rural Investment Act of 2002 (Pub. L. 107-171; 116 Stat. 424 as amended) created the Rural Energy Savings Program (RESP) and the Consolidated Appropriations Act, 2016 (Pub. L. 114-113), provided authorization and funding to provide zero-percent loans to Rural Utilities Service borrowers or other eligible entities to relend to consumers for cost-effective energy efficiency measures. On June 21, 2016, the agency announced the RESP through a Notice of Funding Availability opening the program to applications so as to comply with the legislative mandate. The program is carried out through the Rural Utilities Service (RUS).

Need and Use of the Information: The application process consists of two steps. Step 1: An applicant seeking financing must submit a Letter of Intent to apply in an electronic Portable Document Format (pdf). The Letter of Intent contains the tax identification number, legal name and organization status; verification of rural status (counties to be served and populations); financial status; point of contact; description of program; implementation plan; and a list of eligible energy efficiency measures to be implemented. Step 2: RESP application—after review of the letter of intent, RUS notifies the eligible entity if it is invited to submit the loan application. Required application information is used to determine a borrower's ability to meet financial obligations, includes analyses and document review of the applicant's historical, current, and projected costs, revenues, cash flows, assets, and other factors that may be relevant on a case by case basis. The collection of information is essential to the mission of the agency and the RESP, and is necessary so that RUS can establish applicant and project eligibility.

Description of Respondents: Businesses or other for-profit; Not-for-profit institutions.

Number of Respondents: 33.

Frequency of Responses: Reporting: On occasion.

Total Burden Hours: 1,422.

Charlene Parker,
Departmental Information Collection Clearance Officer.

[FR Doc. 2016-28661 Filed 11-28-16; 8:45 am]

BILLING CODE 3410-15-P